OFFICE OF PERSONNEL MANAGEMENT

5 CFR Part 532

RIN 3206-AN20

Prevailing Rate Systems; Definition of Hancock County, Mississippi, to a Nonappropriated Fund Federal Wage System Wage Area

AGENCY: U.S. Office of Personnel Management.

ACTION: Final rule.

SUMMARY: The U.S. Office of Personnel Management (OPM) is issuing a final rule to define Hancock County, Mississippi, as an area of application county to the Harrison, MS, nonappropriated fund (NAF) Federal Wage System (FWS) wage area. This change is necessary because there are four NAF FWS employees working in Hancock County, and the county is not currently defined to a NAF wage area.

DATES:

Effective date: This regulation is effective on February 22, 2016. Applicability date: This change applies on the first day of the first applicable pay period beginning on or after March 23, 2016.

FOR FURTHER INFORMATION CONTACT: Madeline Gonzalez, by telephone at (202) 606-2858 or by email at pay-leave-policy@opm.gov.

SUPPLEMENTARY INFORMATION: On August 27, 2015, OPM issued a proposed rule (80 FR 51963) to define Hancock County, MS, as an area of application county to the Harrison, MS, NAF FWS wage area.

FPRAC, the national labor-management committee responsible for advising OPM on matters concerning the pay of FWS employees, reviewed and recommended this change by consensus.

The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Beth F. Cobert,
Acting Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

2. Appendix D to subpart B is amended by revising the wage area listing for the Harrison, Mississippi, NAF wage areas to read as follows:

Appendix D to Subpart B of Part 532—Nonappropriated Fund Wage and Survey Areas

* * * * *
MISSISSIPPI
* * * * *
Harrison
Survey Area
Mississippi:
Harrison
Area of Application. Survey area plus:
Alabama:
Mobile
Mississippi:
Forrest
Hancock
Jackson
* * * * *

[FR Doc. 2016-03588 Filed 2-19-16; 8:45 am]

BILLING CODE 6325-39-P